SMALL BUSINESS ADMINISTRATION

Solicitations of Nominations

AGENCY: Small Business Administration (SBA).

ACTION: Notice.

SUMMARY: The SBA requests nominations of individuals to the Small Business Lending Advisory Council (Lending Council). The SBA will consider nominations received in response to this notice, as well as from other sources.

DATES: Nominations will be accepted through May 10, 2024 on a rolling basis. The SBA will retain nominations received after this date for consideration should additional vacancies occur.

ADDRESSES: All nominations should be emailed to LendingCouncil@sba.gov with the subject line 2024 Lending Council Nomination.

FOR FURTHER INFORMATION CONTACT: Alejandro Contreras, Acting Director, Office of Financial Assistance, LendingCouncil@sba.gov or (202) 205-6436. The phone number may also be reached by individuals who are deaf or hard of hearing, or who have speech disabilities, through the Federal Communications Commission's TTY-Based Telecommunications Relay Service teletype service at 711.

SUPPLEMENTARY INFORMATION: The Small Business Lending Advisory Council (Lending Council) is being established as a Federal Advisory Committee in accordance with the Federal Advisory Committee Act (FACA) (Pub. L. 92-463, 5 U.S.C. 10. The following provides information about the Committee, membership, and the nomination process.

I. Objectives and Duties

1. The Small Business Lending Advisory Council: advises the SBA Administrator on matters broadly related to facilitating greater access and availability of capital for small business, especially in underserved communities; provides feedback and input on pending and enacted changes relevant to the small business lending community; cultivating greater public-private engagement, cooperation, and collaboration; develops recommendations for additions or enhancements to SBA programs and services to address long-term capital access gaps faced by small businesses and obstacles faced by the lenders that seek to support them.

2. The Lending Council will provide advice and recommendations to SBA on matters relating to small business lending, private sector innovation in the small business lending community, and policy impacting small businesses' ability to access capital, especially in underserved communities.

3. Committee members will examine the issues, challenges and obstacles facing small businesses seeking access to capital, lenders seeking to provide those small businesses capital under the various SBA capital access programs, underserved and under-resourced communities and the stakeholders supporting them in these subject areas and recommend to SBA policy and programmatic changes to help strengthen and refine SBA's programs and services to better facilitate the flow of capital to small businesses.

4. The Lending Council will submit to the SBA Administrator and the Associate Administrator for the Office of Capital Access a report containing a detailed description of the Committee's activities; its findings, conclusions, and recommendations; and recommendations for such administrative actions as the Lending Council considers appropriate to fulfill the purpose and objectives for which the Committee has been created.

5. The Lending Council will function solely as an advisory body and shall comply fully with the provisions of the FACA and the Small Business Act and applicable rules and regulations.

6. The Lending Council will report to the SBA Administrator and the Associate Administrator for the Office of Capital Access.

II. Membership

1. The Lending Council shall consist of no more than twenty-five (25) members appointed by the SBA Administrator and will serve in a representative capacity.

a. Seventeen (17) members may consist of current or former representatives of small business leaders, community leaders, representatives of financial institutions, and members of the small business lending community;

b. Four (4) members may consist of small business advocates, research organizations, or members of the financial support and inclusion community;

c. One (1) member shall be a designated representative of the Department of Treasury, Office of the Comptroller of the Currency;

d. One (1) member shall be a designated representative of the Consumer Financial Protection Bureau;

e. One (1) member shall be a designated representative of the Department of Agriculture;

f. One (1) member shall be a designated representative of the Federal Reserve Board. Representatives of federal agencies shall be designated by the head of their respective department or agency.

2. Members shall be appointed for two (2) year terms and may not serve for more than three consecutive terms if the council is renewed.

3. In appointing members of the Lending Council, the Administrator shall, to the extent practicable, ensure that the members appointed reflect geographic (including both urban and rural areas), racial, gender, and economic diversity.

4. The SBA Administrator shall appoint a Chairperson and Vice Chairperson from the membership of the Lending Council.

III. Miscellaneous

1. The SBA will not compensate members of the Lending Council for their services, but shall, on request, reimburse travel expenses as authorized by 5 U.S.C. 5703. All necessary staff support services, facilities, and expenses will, to the extent permitted by law and subject to the availability of funds, be furnished by the SBA Office of Capital Access.

2. The Lending Council shall meet at least three (3) times per year at the call of the Designated Federal Officer in consultation with the Chairperson, or at the request of the SBA Administrator. There will be one in person meeting held each year, with two virtual meetings.

3. The Designated Federal Officer for the Lending Council is the career Deputy Associate Administrator, Office of Capital Access, or any other full-time or part-time employee designated and assigned by the SBA Administrator.

IV. Nomination Information

1. Nominations are requested as described below.

2. Nominees must have experience and technical expertise in such areas as commercial lending, small business finance, government-guaranteed lending, small business advocacy or advisement, and expertise needed to provide advice on SBA's loan programs.

3. The SBA is especially interested in receiving applications from persons with expertise in small business finance for underserved communities, including rural communities and high-poverty communities.

4. Individuals, groups, and/or organizations may submit nominations on behalf of individual candidates. Nominees must be able to actively participate in the tasks of the Lending Council, including, but not limited to, regular meeting attendance, Committee meeting discussant responsibilities, review of materials, as well as participation in conference calls, webinars, working groups, and/or special Committee activities.

5. Self-nominations are permitted.

6. Nomination emails sent to LendingCouncil@sba.gov should include:

a. The subject line 2024 Lending Council Nomination.

b. The first and last name of the nominee, as well as the nominee's phone number and email address.

c. The nominator, including either the first and last name of the nominator and their current title, or the name of the organization.

d. The nominee's state of residence.

e. A nomination letter, not to exceed 2 pages, that highlights the reason the nominee should serve on the Lending Council.

f. A summary of the nominee's qualifications in a resumé or curriculum vitae, not to exceed 3 pages.

7. The SBA is committed to equal opportunity in the workplace and seeks diverse membership.

Dated: April 2, 2024.
Andrienne Johnson,
Committee Management Officer.

[FR Doc. 2024-07325 Filed 4-5-24; 8:45 am]

BILLING CODE 8026-09-P